DEPARTMENT OF LABOR

Employment and Training Administration

[TA-W-70,849]

Venta-Airwasher, LLC, Including On-Site Leased Workers From Metro Staffing, Snelling and Office Team Itasca, IL; Amended Certification Regarding Eligibility To Apply for Worker Adjustment Assistance

In accordance with Section 223 of the Trade Act of 1974, as amended (“Act”), 19 U.S.C. 2273, the Department of Labor issued a Certification of Eligibility to Apply for Worker Adjustment Assistance on October 22, 2009, applicable to workers of Venta-Airwasher, LLC, Itasca, Illinois. The notice was published in the Federal Register on December 11, 2009 (74 FR 65795).

At the request of the State Agency, the Department reviewed the certification for workers of the subject firm. The workers provided sales and distribution services for humidifiers and dehumidifiers produced by the subject firm.

The company reports that on-site leased workers from Metro Staffing, Snelling and Office Team were employed on-site at the Itasca, Illinois location of Venta-Airwasher, LLC. The Department has determined that these workers were sufficiently under the control of the subject firm to be considered leased workers.

Based on these findings, the Department is amending this certification to include workers leased from Metro Staffing, Snelling and Office Team working on-site at the Itasca, Illinois location of Venta-Airwasher, LLC.

The amended notice applicable to TA-W-70,849 is hereby issued as follows:

“All workers of Venta-Airwasher, LLC, including on-site leased workers from Metro Staffing, Snelling and Office Team, Itasca, Illinois, who became totally or partially separated from employment on or after May 28, 2008, through October 22, 2011, and all workers in the group threatened with total or partial separation from employment on the date of certification through two years from the date of certification, are eligible to apply for adjustment assistance under Chapter 2 of Title II of the Trade Act of 1974, as amended.”

Signed at Washington, DC, this 19th day of February 2010.
Michael W. Jaffe,
Certifying Officer, Division of Trade Adjustment Assistance.

[FR Doc. 2010-4577 Filed 3-4-10; 8:45 am]

BILLING CODE 4510-FN-P